DEPARTMENT OF LABOR

Employment and Training Administration

[TA-W-40,745]

New Holland North America, Inc., CNH Global N.V., Including Temporary Workers of Kelly Services and Manpower, Belleville, Pennsylvania; Amended Certification Regarding Eligibility To Apply for Worker Adjustment Assistance

In accordance with section 223 of the Trade Act of 1974 (19 USC 2273) the Department of Labor issued a Certification of Eligibility to Apply for Worker Adjustment Assistance on March 6, 2002, applicable to workers of New Holland North American, Inc., CNH Global N.V., Belleville, Pennsylvania. The notice was published in the Federal Register on March 29, 2002 (67 FR 15226).

At the request of the State agency, the Department reviewed the certification for workers of the subject firm. Information provided by the State and the company shows that temporary workers of Kelly Services and Manpower were employed at New Holland North America, Inc., CNH Global N.V. to produce industrial machinery and component parts at the Belleville, Pennsylvania location of the subject firm.

Based on these findings, the Department is amending this certification to include temporary workers of Kelly Services and Manpower, Belleville, Pennsylvania employed at New Holland North America, Inc., CNH Global N.V., Belleville, Pennsylvania.

The intent of the Department's certification is to include all workers of New Holland North America, Inc., CNH Global N.V. who were adversely affected by increased imports.

The amended notice applicable to TA-W-40,745 is hereby issued as follows:

“All workers of New Holland North America, Inc., CNH Global N.V., Belleville, Pennsylvania including temporary workers of Kelly Services and Manpower, Belleville, Pennsylvania engaged in employment related to the production of industrial machinery and component parts at New Holland North America, Inc., CNH Global N.V., Belleville, Pennsylvania who became totally or partially separated from employment on or after December 13, 2000, through March 6, 2004, are eligible to apply for adjustment assistance under section 223 of the Trade Act of 1974.”

Signed at Washington, DC this 16th day of April, 2002.
Linda G. Poole,
Certifying Officer, Division of Trade Adjustment Assistance.

[FR Doc. 02-10893 Filed 5-1-02; 8:45 am]

BILLING CODE 4510-30-M